DEPARTMENT OF THE INTERIOR

Fish and Wildlife Service

50 CFR Part 17

RIN 1018-AI73

Endangered and Threatened Wildlife and Plants; Reopening of Comment Period, Announcement of Public Hearing, and Availability of Draft Economic Analysis for Proposed Designation of Critical Habitat for Three Threatened Mussels and Eight Endangered Mussels in the Mobile River Basin

AGENCY: Fish and Wildlife Service, Interior.

ACTION: Notice; reopening of comment period, announcement of hearing, and availability of draft economic analysis.

SUMMARY: We, the Fish and Wildlife Service, announce the availability of the draft economic analysis for the proposed designation of critical habitat for three threatened mussels and eight endangered mussels in the Mobile River Basin. We also give notice of a public hearing. We are reopening the comment period for the proposal to designate critical habitat for these species to accommodate the public hearing and to allow all interested parties to comment on the proposed rule and associated draft economic analysis. Comments previously submitted need not be resubmitted and will be fully considered in the final determination of the proposal.

DATES: The public hearing will be held from 7 to 10 p.m. central standard time on October 1, 2003, in Birmingham, Alabama.

Maps of the critical habitat units and information on the species will be available for public review on October 1, 2003 from 5:30 to 6:30 p.m.

The comment period is hereby reopened until October 14, 2003. We must receive comments on the proposal and draft economic analysis from all interested parties by the closing date. Any comments that we receive after the closing date will not be considered in the final decision on this proposal.

ADDRESSES: The public hearing will be held at Brock Forum, located in Dwight Beeson Hall on the campus of Samford University, 800 Lakeshore Drive, Birmingham, Alabama. You can get copies of the proposed rule for the critical habitat designation, maps, and draft economic analysis by downloading them on the Internet at http://southeast.fws.gov/hotissues; or by writing to the Field Supervisor, U.S. Fish and Wildlife Service, 6578 Dogwood View Parkway, Suite A, Jackson, MS 39213; or by calling Connie Light Dickard, Mississippi Field Office, telephone 601/321-1121.

Written comments and materials concerning the proposal may be submitted to us at the hearing, or directly by any one of several methods:

1. You may submit written comments and information to the Field Supervisor, U.S. Fish and Wildlife Service, 6578 Dogwood View Parkway, Suite A, Jackson, MS 39213.

2. You may hand-deliver written comments and information to our Mississippi Field Office, at the above address, or fax your comments to 601/965-4340.

3. You may send comments by electronic mail (e-mail) to paul_hartfield@fws.gov. For directions on how to submit comments electronically, see the “Public Comments Solicited” section.

Comments and materials received, as well as supporting documentation used in preparation of this proposed rule, will be available for public inspection, by appointment, during normal business hours at the above address.

FOR FURTHER INFORMATION CONTACT: Paul Hartfield, Mississippi Field Office, at the above address (telephone 601/321-1125, facsimile 601/965-4340).

SUPPLEMENTARY INFORMATION:

Background

We listed the fine-lined pocketbook (Lampsilis altilis), orange-nacre mucket (Lampsilis perovalis), and Alabama moccasinshell (Medionidus acutissimus) as threatened species, and the Coosa moccasinshell (Medionidus parvulus), southern clubshell (Pleurobema decisum), dark pigtoe (Pleurobema furvum), southern pigtoe (Pleurobema georgianum), ovate clubshell (Pleurobema perovatum), triangular kidneyshell (Ptychobranchus greeni), upland combshell (Epioblasma metastriata), and southern acornshell (Epioblasma othcaloogensis) as endangered species on March 17, 1993 (58 FR 14330).

On March 26, 2003, we published in the Federal Register a proposal to designate critical habitat for these species (68 FR 14752). The proposed designation includes portions of the Tombigbee River drainage in Mississippi and Alabama; portions of the Black Warrior River drainage in Alabama; portions of the Alabama River drainage in Alabama; portions of the Cahaba River drainage in Alabama; portions of the Tallapoosa River drainage in Alabama and Georgia; and portions of the Coosa River drainage in Alabama, Georgia, and Tennessee. The proposed designation encompasses a total of approximately 1,760 kilometers (km) (1,093 miles (mi)) of river and stream channels.

Section 4(b)(2) of the Act requires that we designate critical habitat based upon the best scientific data available and after taking into consideration the economic impact, and any other relevant impact, of specifying any particular area as critical habitat. We may exclude an area from critical habitat if we determine that the benefits of excluding the area outweigh the benefits of including the area as critical habitat, provided such exclusion will not result in the extinction of the species. We have prepared a draft economic analysis concerning the proposed critical habitat designation, which is available for review and comment (see ADDRESSES section). The results of our draft analysis suggest that the potential economic impacts of the proposed designation range from $9.03 million to $33.3 million over the next 10 years. Please refer to the draft analysis for more details concerning the methodological approach and findings of the analysis.

Public Hearing

Section 4(b)(5)(E) of the Act (16 U.S.C. 1531 et seq.) requires that a public hearing be held if it is requested within 45 days of the publication of the proposed rule. Donald Waldon, Tennessee-Tombigbee Waterway Development Authority; Randall Chafin, The Birmingham Waterworks Board; Ralph Clemens, Alabama-Tombigbee Rivers Coalition; Jerry Sailors, Coosa-Alabama Improvement Association; and Sheldon Morgan, Warrior-Tombigbee Waterway Association, individually requested a public hearing within the allotted time period.

Public hearings are designed to gather relevant information that the public may have that we should consider in the proposed designation of critical habitat or a draft economic analysis.

We will hold a public hearing in Birmingham, Alabama, on October 1, 2003, from 7 to 10 p.m. Birmingham is centrally located relative to the proposed critical habitat units and the affected States. The hearing location will be the Brock Forum, located in Dwight Beeson Hall on the campus of Samford University, 800 Lakeshore Drive, Birmingham, Alabama. All comments presented at the public hearing will be recorded by a court reporter. Maps of the critical habitat units and information on the species will be available for public review one hour prior to the public hearing between 5:30 and 6:30 p.m.

Public Comments Solicited

We have reopened the comment period at this time in order to accept the best and most current scientific and commercial data available regarding the proposed critical habitat determination for the three threatened and eight endangered Mobile River Basin mussels and the draft economic analysis associated with the designation of critical habitat. All previous comments and information submitted during the comment period need not be resubmitted. Written comments may be submitted to the Field Supervisor (see ADDRESSES section).

Please submit electronic comments as an ASCII file format and avoid the use of special characters and encryption. Please also include “Attn: RIN 1018-AI73” and your name and return address in your e-mail message. If you do not receive a confirmation from the system that we have received your

e-mail message, please contact us directly by calling our Mississippi Field Office (see ADDRESSES section).

Our practice is to make all comments, including names and home addresses of respondents, available for public review during regular business hours. Individual respondents may request that we withhold their home addresses from the rulemaking record, which we will honor to the extent allowable by law. In some circumstances, we would withhold from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

We solicit comments or suggestions from the public, other concerned governmental agencies, the scientific community, industry, or any other interested parties concerning the proposal or the draft economic analysis. We particularly seek comments concerning:

(1) Are data available to develop more accurate estimates of the costs of project modifications related to the relicensing of Weiss Dam and operations at Carters Reregulation Dam;

(2) Are data available to discern the likelihood that the proposed water supply dams will be constructed within critical habitat; further, is information available regarding the costs of potential project modifications for construction of these dams;

(3) Are data available on additional land use practices, or current or planned activities in proposed critical habitat areas, that are not specifically or adequately addressed in this analysis; and

(4) Are data available detailing additional specific benefits of the species or habitat that may be incorporated qualitatively or quantitatively into the discussion of benefits?

Author

The primary author of this document is Paul Hartfield (see ADDRESSES section).

Authority

The authority for this action is the Endangered Species Act of 1973, as amended (16 U.S.C. 1531 et seq.).

Dated: August 5, 2003.
Craig Manson,
Assistant Secretary for Fish and Wildlife and Parks.

[FR Doc. 03-20729 Filed 8-13-03; 8:45 am]

BILLING CODE 4310-55-P